NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 12, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas requiring special protection. The regulations establish such a permit system to designate Antarctic Specially Protected Areas.

Application Details

Permit Application: 2020-010

1. Applicant: Heather J. Lynch, Stony Brook University, 610 Life Sciences Building, Stony Brook, NY 11794.

Activity for Which Permit is Requested: Harmful Interference; Enter Antarctic Specially Protected Area (ASPA). The applicant would survey chinstrap penguin (Pygoscelis antarctica) colonies in the South Shetland Islands including multiple sites on Low Island. The outcomes of the surveys would be useful in determining population abundance and distribution of chinstrap penguins, important consumers of Antarctic krill. Surveys would be completed using direct manual counts (on foot) and by operating small, remotely piloted aircraft systems (RPAS) over colonies. RPAS would be operated by experienced pilots at altitudes of at least 30 meters above wildlife. Although no significant disturbance is expected, both manual counts and RPAS overflights have the potential to disturb chinstrap penguins as well as Adelie penguin (Pygoscelis adeliae), gentoo penguin (P. papua), southern giant petrel (Macronectes giganteus), southern fulmar (Fulmarus glacialoides), cape petrel (Daption capense), Antarctic blue-eyed shag (Phalacrocorax atriceps), Antarctic brown skua (Catharacta antarctica), south polar skua (C. maccormicki), kelp gull (Larus dominicanus), and Antarctic tern (Sterna vittata) based on the locations of the surveys. The applicant expects that several million chinstrap penguins would be surveyed by RPAS. The applicant would enter ASPA 152 to complete surveys at Low Island. The applicant would also collect samples of ticks, guano, and tissue samples salvaged from already dead gentoo penguins in support of the research.

Location: ASPA 152 Western Bransfield Strait; South Shetland Islands: Low Island, Smith Island, Snow Island, Elephant Island; Antarctic Peninsula region.

Dates of Permitted Activities: January 1-March 1, 2020.

Permit Application: 2020-017

2. Applicant: Joseph A. Covi, University of North Carolina at Wilmington, Department of Biology and Marine Biology, Wilmington, NC 28403.

Activity for Which Permit is Requested: Enter Antarctic Specially Protected Areas. The application proposes to enter four Antarctic Specially Protected Areas (ASPAs) on King George Island, South Shetland Islands, Antarctica for the purposes of collecting small sediment samples from freshwater lakes and ephemeral ponds. The applicant would enter ASPA 125, Fildes Peninsula; ASPA 132, Potter Peninsula; ASPA 150, Ardley Island, Maxwell Bay; and ASPA 171 Narebski Point, Barton Peninsula. The applicant plans to access the ASPAs by boat and on foot. Up to six sediment samples will be collected near the shoreline or from an inflatable boat from each of up to eight lakes and eight ephemeral ponds in total. Sediment core samples may be taken through holes drilled in the ice cover, as applicable. The applicant and agents will adhere to the management plans for each of the ASPAs that they propose to enter.

Location: King George Island, South Shetland Islands, Antarctica; ASPA 125, Fildes Peninsula; ASPA 132, Potter Peninsula; ASPA 150, Ardley Island, Maxwell Bay; and ASPA 171 Narebski Point, Barton Peninsula.

Dates of Permitted Activities: December 1, 2019-March 31, 2022.

Permit Application: 2020-018

3. Applicant: Zicheng Yu, Department of Earth and Environmental Science, Lehigh University, 1 West Packer Avenue, Bethlehem, PA 18015.

Activity for Which Permit is Requested: Enter Antarctic Specially Protected Area (ASPA). The applicant requests access to ASPA 113, 126, and 134 to collect small samples of moss and peat and carry out field measurements. Moss samples would primarily consist of two species, Polytrichum strictum and Chorisodontium aciphyllum, and would be collected by hand. Cores of peat moss up to 100 cm deep would be collected by box corer (3 inches by 4 inches) or permafrost corer (2-inch diameter). A limited number of samples would be collected from within the ASPAs and from other nearby locations within the Palmer Basin ASMA. No equipment or instrumentation would be installed in any ASPA. To minimize the potential for unintentional transfer of soils or organisms, the application and agents would clean sample collection tools, as well as clothing and shoes, between visits to different field sites. The samples would be processed at the home institution. Data gathered from this research will advance the understanding of peat moss banks to climate change during the last 3,000 years. The applicant would also operate a small, remotely piloted aircraft system equipped with a camera in order to map vegetation and peat moss beds.

Location: Antarctic Peninsula region; ASMA 7, Southwest Anvers Island and Palmer Basin; ASPA 113, Litchfield Island, Arthur Harbor, Anvers Island, Palmer Archipelago; ASPA 126, Byers Peninsula, Livingston Island, South Shetland Islands; ASPA 134 Cierva Point and offshore islands, Danco Coast, Antarctic Peninsula.

Dates of Permitted Activities: February 16, 2020-March 31, 2020.

Erika N. Davis,
Program Specialist, Office of Polar Programs.

[FR Doc. 2019-24542 Filed 11-8-19; 8:45 am]

BILLING CODE 7555-01-P